EQUAL EMPLOYMENT OPPORTUNITY COMMISSION

SES Performance Review Board—Appointment of Members

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRB. Members will serve a 12-month term, which begins on November 18, 2015.

PRB Chair: Ms. Delner Franklin-Thomas, Director, Birmingham District Office, Equal Employment Opportunity Commission.

Members:

Ms. Julianne Bowman, Director, Chicago District Office, Equal Employment Opportunity Commission;

Mr. Carlton Hadden, Director, Office of Federal Operations, Equal Employment Opportunity Commission;

Mr. James L. Lee, Deputy General Counsel, Office of General Counsel, Equal Employment Opportunity Commission;

Ms. Veronica Venture, Director, EEO and Diversity, Department of Homeland Security.

Alternate: Ms. Germaine Roseboro, Director, Office of the Chief Financial Officer, Equal Employment Opportunity Commission.

By the direction of the Commission.
Dated: October 23, 2015.
Jenny R. Yang,
Chair.

[FR Doc. 2015-27733 Filed 10-30-15; 8:45 am]

BILLING CODE 6570-01-P